DEPARTMENT OF LABOR

Employment and Training Administration

[TA-W-52,928]

Northrup Grumman Interconnect Technology, Springfield, MO; Notice of Termination of Investigation

Pursuant to Section 221 of the Trade Act of 1974, as amended, an investigation was initiated on September 23, 2003 in response to a worker petition filed a company official on behalf of workers at Northrup Grumman Interconnect Technologies, Springfield, Missouri.

The petitioner has requested that the petition be withdrawn. Consequently, the investigation has been terminated.

Signed at Washington, DC this 14th day of October 2003.
Elliott S. Kushner,
Certifying Officer, Division of Trade Adjustment Assistance.

[FR Doc. 03-29112 Filed 11-20-03; 8:45 am]

BILLING CODE 4510-30-P